DEPARTMENT OF TRANSPORTATION

National Highway Traffic Safety Administration

[Docket No. NHTSA-2011-0074; Notice 2]

Chrysler Group, LLC, Grant of Petition for Decision of Inconsequential Noncompliance

AGENCY: National Highway Traffic Safety Administration, DOT.

ACTION: Grant of Petition.

SUMMARY Chrysler Group, LLC (Chrysler),¹ has determined that certain model year (MY) 2011 Chrysler Town & Country and Dodge Grand Caravan multipurpose passenger vehicles (MPVs) manufactured between March 16, 2011 through March 22, 2011, do not fully comply with paragraph S4.3(d) of Federal Motor Vehicle Safety Standard (FMVSS) No. 110, Tire selection and rims and motor home/recreation vehicle trailer load carrying capacity information for motor vehicles with a GVWR of 4,536 kilograms (10,000 pounds) or less. Chrysler has filed an appropriate report dated May 3, 2011, pursuant to 49 CFR Part 573, Defect and Noncompliance Responsibility and Reports.

¹ Chrysler Group, LLC is a vehicle manufacturer incorporated under the laws of the state of Delaware.

Pursuant to 49 U.S.C. 30118(d) and 30120(h) and the rule implementing those provisions at 49 CFR part 556, Chrysler has petitioned for an exemption from the notification and remedy requirements of 49 U.S.C. Chapter 301 on the basis that this noncompliance is inconsequential to motor vehicle safety. Notice of receipt of the petition was published, with a 30-day public comment period, on February 15, 2012 in the Federal Register (77 FR 8944). No comments were received. To view the petition and all supporting documents log onto the Federal Docket Management System (FDMS) Web site at: http://www.regulations.gov/. Then follow the online search instructions to locate docket number “NHTSA-2011-0074”.

Contact Information: For further information on this decision contact Ms. Amina Fisher, Office of Vehicle Safety Compliance, the National Highway Traffic Safety Administration (NHTSA), telephone (202) 366-0645, facsimile (202) 366-5307.

Vehicles Involved: Affected are approximately 729 MY 2011 Chrysler Town & Country and Dodge Grand Caravan MPVs manufactured between March 16, 2011 and March 22, 2011 and equipped with Yokohama size 225/65-R16 passenger car tires.

Summary of Chrysler's Analyses: Chrysler explains that the noncompliance is that the vehicle placards on the affected vehicles incorrectly identify the tire size as required by paragraph S4.3(d) of FMVSS No. 110.

Chrysler additionally explains that during the production of the subject vehicles there was a temporary shortage of Kumho size 235/60R16 passenger car tires. As a result, Yokahama size 225/65R16 tires and vehicle placard were substituted. On March 16, 2011, when the Kumbo tires were scheduled to be reintroduced, the vehicle placard was updated to reflect the tire change and placed on the subject vehicles. However, 729 vehicles that received the updated vehicle placard were fitted with the Yokahama tires instead of the Kumbo tires.

Chrysler stated its belief that the subject noncompliance is inconsequential to motor vehicle safety for the following reasons:

1. The tire inflation pressure requirement for both tires is the same and that the recommended gross vehicle weight rating (GVWR) of the vehicles is not affected by the tire change. Chrysler also notes that the tire circumference for both tires is essentially the same and that the functions of the vehicle speedometer and odometer, the tire pressure monitoring system (TPMS), the antilock brake system (ABS) and the electronic stability program (ESP) are not affected by the 21 mm difference in circumference. In addition, Chrysler stated that the subject Kumbo and Yokahama tires provide equivalent performance when mounted on the subject vehicles.

2. While the non-compliant vehicle placards incorrectly state the tire size, they meet or exceed all other applicable Federal Motor Vehicle Safety Standards.

3. The noncompliance is inconsequential to motor vehicle safety because the noncompliant vehicle placards do not create an unsafe condition and all other labeling requirements have been met.

Chrysler also added that it believes that NHTSA has previously granted similar petitions.

In summation, Chrysler believes that the described noncompliance of the subject vehicles is inconsequential to motor vehicle safety, and that its petition, to exempt from providing recall notification of noncompliance as required by 49 U.S.C. 30118 and remedying the recall noncompliance as required by 49 U.S.C. 30120 should be granted.

NHTSA Decision: The intent of FMVSS No. 110 is to ensure that vehicles are equipped with tires appropriate to handle maximum vehicle loads and prevent overloading. NHTSA has confirmed that: The installed and labeled tires, including the spare, when inflated to the labeled recommended cold inflation pressure are appropriate to handle the vehicle maximum loads; the tire and loading information labels on subject vehicles are correct, except for the subject noncompliance; the vehicles are equipped with tires that have the complete tire size (225/65R16) molded into their sidewalls. Consequently, the subject noncompliance should not cause any unsafe conditions associated with determination of the correct tire inflation pressures or replacement tire selection for the subject vehicles.

Therefore, NHTSA agrees with Chrysler that in this specific case the incorrect tire size printed on the tire and loading information labels on the affixed vehicles does not have any adverse safety implications.

NHTSA is also not aware of any customer complaints or field reports relating to this issue and Chrysler stated that it has corrected the problem that caused these errors so that they will not be repeated in future production.

In consideration of the foregoing, NHTSA has decided that Chrysler has met its burden of persuasion that the FMVSS No. 110 noncompliance in the vehicles identified in Chrysler's Noncompliance Information Report is inconsequential to motor vehicle safety. Accordingly, Chrysler's petition is granted and the petitioner is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to approximately 729 vehicles that Chrysler no longer controlled at the time that it determined that a noncompliance existed in the subject vehicles. However, the granting of this petition does not relieve vehicle distributors and dealers of the prohibitions on the sale, offer for sale, or introduction or delivery for introduction into interstate commerce of the noncompliant vehicles under their control after Chrysler notified them that the subject noncompliance existed.

Authority: 49 U.S.C. 30118, 30120: delegations of authority at 49 CFR 1.95 and 501.8.

Issued on: June 20, 2013.
Claude H. Harris,
Director, Office of Vehicle Safety Compliance.

[FR Doc. 2013-15278 Filed 6-25-13; 8:45 am]

BILLING CODE 4910-59-P